DEPARTMENT OF AGRICULTURE

Animal and Plant Health Inspection Service

[Docket No. 00-050-1]

Symposium; Reptile Industry

AGENCY: Animal and Plant Health Inspection Service, USDA.

ACTION: Notice of symposium.

SUMMARY: The Animal and Plant Health Inspection Service is hosting a symposium for the exchange of information among representatives of the reptile industry, animal agriculture, and Federal and State agencies. The public is invited to attend the symposium.

DATES: We invite you to comment on this docket. We will consider all comments that we receive by August 18, 2000.

The symposium will be held in Tallahassee, FL, on Tuesday and Wednesday, July 11 and 12, 2000. The symposium will begin at 8 a.m. and end at 5:30 p.m each day, local time. On-site registration and sign-in for preregistered attendants will take place from 7:30 a.m. to 8 a.m. each day.

ADDRESSES: If you cannot attend the symposium, please send your written comment and three copies to: Docket No. 00-050-1, Regulatory Analysis and Development, PPD, APHIS, Suite 3C03, 4700 River Road, Unit 118, Riverdale, MD 20737-1238. Please state that your comment refers to Docket No. 00-050-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

The symposium will be held at the Ramada Inn and Conference Center, 2900 North Monroe Street, Tallahassee, FL 32303; (850) 386-1027.

FOR FURTHER INFORMATION CONTACT: D. D. Wilson, Senior Staff Entomologist, Emergency Programs Staff, VS, APHIS, 4700 River Road Unit 41, Riverdale, MD 20737-1231; (301) 734-8073.

SUPPLEMENTARY INFORMATION: The Animal and Plant Health Inspection Service (APHIS) plans to host a symposium in Tallahassee, FL, on July 11 and 12, 2000. The symposium will be open to the public and will provide a forum for the exchange of information among representatives of the reptile industry, animal agriculture, and Federal and State agencies.

Information presented at the symposium will be related to the U.S. reptile industry. Specific presentations offered by participants will include information on:

• The reptile industry, including growth trends, economics, and market/industry segments and operations;

• Key issues and considerations for safeguarding against the introduction of nonindigenous species of ticks on imported reptiles;

• Handling and inspection of reptiles for the presence of ticks and existing methods for treating, controlling, and preventing ectoparasites on reptiles;

• Animal and human health implications posed by tick-borne diseases; and

• Various regulatory authorities that exist among State and Federal agencies related to the importation and commerce of tortoises.

There will be an opportunity for questions from the public at the conclusion of each day of the symposium.

Advance Registration

Advance registration is requested by July 3, 2000. Although advance registration is not required, attendance may be limited based on public response and conference center accommodations. There is no registration fee.

To register in advance for the symposium, please send your name, affiliation, address, and telephone number either by e-mail to Dave.D.Wilson@usda.gov or by fax to (301) 734-7817.

If you have any questions about registration, contact the person listed under FOR FURTHER INFORMATION CONTACT near the beginning of this document.

Written Comments

If you cannot attend the symposium, you may submit written comments on the topics outlined in this notice. To submit written comments, please follow the instructions listed under the heading ADDRESSES near the beginning of this document.

Authority: 7 U.S.C. 1622; 19 U.S.C. 1306; 21 U.S.C. 102-105, 21 U.S.C. 111-113, 114a, 115, 117, 120, 122-126, 134a, 134b, 134c, 134d, 134f, 136, and 136a; 31 U.S.C. 9701; 7 CFR 2.22, 2.80, and 371.2(d).

Done in Washington, DC, this 13th day of June 2000.
Craig A. Reed,
Administrator, Animal and Plant Health Inspection Service.

[FR Doc. 00-15364 Filed 6-16-00; 8:45 am]

BILLING CODE 3410-34-P